DEPARTMENT OF TRANSPORTATION

Federal Highway Administration

511 Traveler Information Telephone Number Program Support Assistance Program; Request for Applications

AGENCY: Federal Highway Administration (FHWA), DOT.

ACTION: Notice; request for applications.

SUMMARY: This document requests applications for assistance from public agencies in developing plans for implementing systems to provide traveler information over the telephone using the common three-digit national access number, 511. When an implementation plan exists, this assistance also may be used to convert existing traveler information telephone numbers to 511. This assistance program provides Federal funding to public agencies to develop regional and statewide plans for implementing 511 traveler information services, and/or to help defray the costs of telephone service providers in converting traveler information telephone numbers. Applications in response to this notice will be assessed to determine: (1) The readiness of the applicant to develop an implementation plan for 511 services; (2) the adequacy of the proposed approach related to geographic areas, institutional coordination, and information to be provided; and/or (3) if assistance is to be used for converting traveler information telephone numbers, the readiness of the applicant to convert in a timely fashion. This notice replaces, in its entirety, the notice of request for applications for conversion to 511, published August 9, 2000, at 65 FR 48797.

DATES: Applications for 511 program support assistance must be received prior to June 1, 2002. Decisions regarding the acceptance of specific applications for funding will be made within 60 business days of receipt.

ADDRESSES: Applications for 511 program support assistance should be submitted electronically via e-mail to 511CONVERT@FHWA.DOT.GOV, or mailed directly to the Federal Highway Administration, Intelligent Transportation Systems (ITS) Joint Program Office, 511 Planning Support, HOIT-1, 400 Seventh St., SW., Room 3416, Washington, D.C. 20590-0001.

FOR FURTHER INFORMATION CONTACT: Mr. Robert Rupert, Office of Travel Management (HOTM-1), (202) 366-2194; Mr. William S. Jones, ITS Joint Program Office (HOIT-1), (202) 366-2128; or Ms. Gloria Hardiman-Tobin, Office of Chief Counsel (HCC-32), (202) 366-0780; U.S. Department of Transportation, Federal Highway Administration, 400 Seventh Street, SW., Washington, D.C. 20590-0001. Office hours are from 8 a.m. to 4:30 p.m., e.t., Monday through Friday, except Federal holidays.

SUPPLEMENTARY INFORMATION:

Electronic Access

An electronic copy of this document may be downloaded using a modem and suitable communications software from the Government Printing Office's Electronic Bulletin Board Service at (202) 512-1661. Internet users may reach the Office of the Federal Register's home page at http://www.nara.gov/fedreg and the Government Printing Office's web page at http://www.access.gpo.gov/nara.

The document may also be viewed at the U.S. Department of Transportation's ITS home page at http://www.its.dot.gov.

Background

On March 8, 1999, the U.S. Department of Transportation petitioned the Federal Communications Commission (FCC) to adopt a new, national three-digit telephone number to allow Americans to access on-the-spot transportation and traveler information such as road conditions and bus schedules. The burgeoning traffic reporter industry reflects the hunger that citizens have for more travel information, and the positive role the government can play as a partner in providing that information.

The nationwide three-digit number will utilize and significantly advance the intelligent transportation infrastructure already in place to assist some States and cities in providing traveler information. The traveler information will continue to be provided by private companies or public/private partnerships already delivering this service. The number will provide information about bad weather, construction, or traffic jams that cause delays for businesses and the general public, as well as information about the status of transit buses, ferries, light rail, and other public transportation in local communities. In addition, by directing drivers away from congestion and hazardous conditions, the nationwide three-digit number will provide better access for emergency vehicles responding to accidents.

The FCC placed the DOT's petition in its docket (File No. NSD-L-99-24, CC Docket 92-105; 57 FR 22681, May 29, 1992), and comments submitted to the FCC were favorable to adoption of a national three-digit traveler information number. On July 21, 2000, the FCC assigned 511 as the nationwide traveler information telephone number and granted responsibility for it to government transportation agencies.

Using 511 as a single number to provide traveler information that might now be provided by a number of telephone numbers associated with various transportation agencies or jurisdictions demands a significant degree of coordination within any State or region. Therefore, transportation officials must consider how a telephone call to 511 will be handled depending on the caller's location before they begin discussions with telecommunications providers to implement 511 telephone services.

In order to assist locations in the planning necessary to convert existing telephone access numbers and facilitate implementing the 511 telephone service, the DOT developed a program to provide Federal funding assistance. As an initial implementation of this assistance, the FHWA published a notice on August 9, 2000, at 65 FR 48797, requesting participation in a program to help defray the costs associated with converting existing traveler information telephone numbers to 511. Based upon early applications and initial work by States such as Kentucky, Virginia, and Arizona, it became clear that some sort of assistance to areas to develop 511 traveler information systems would be more beneficial toward deployment of 511 services nationwide than just converting existing telephone numbers. Therefore, this 511 support assistance program replaces the earlier conversion program, and offers funding to State transportation departments to develop plans for 511 services. If 511 deployment plans exist, the funds may be used to defray the costs of conversion to 511 or the development of 511 services. The development of 511 services may include development of basic traveler information services, if none exist or are inadequate for delivery by 511. A critical element of developing 511 deployment plans is determining the available traveler information services and the “gaps” that may exist when considering statewide deployment.

This is expected to be a two-year program beginning in fiscal year (FY) 2001 with approximately $5 million in Federal funds available. The maximum amount of Federal funding provided under this program for any State is limited to $100,000. The number of applications approved for funding each FY will depend upon the number of applications submitted and the total funding available for each FY.

Objectives of the 511 Support Assistance Program

The goal of the 511 support assistance program is to accelerate the implementation of 511 nationwide for traveler information. Through this program, the Intelligent Transportation Systems Joint Program Office (ITS-JPO) expects to enable every State to develop plans or programs that result in the deployment of traveler information services delivered through the 511 telephone number. The creation of statewide 511 deployment plans will facilitate discussions with telecommunications firms on implementing 511 services, and serve as a key building block for a 511 system available nationwide.

Applications for 511 support assistance may be submitted by any State transportation department able to serve as a facilitator or manager for 511 within the State, acting on behalf of the effected parties in the State and surrounding areas, as appropriate, for delivering 511 services.

Funding

The FHWA anticipates that applications selected for funding will begin in FY 2001. The instrument to provide funding, on a cost reimbursable basis, will be an ITS partnership agreement. Federal funding authority is derived from section 5001(a)(5) of the Transportation Equity Act for the 21st Century (TEA-21), Public Law 105-178, 112 Stat. 107, 419 (1998). Actual award of funds will be subject to funding availability.

Federal ITS funding for 511 support assistance may be used to:

1. Develop materials to support, conduct, or participate in meetings with potential participants in 511 service programs, including researching available traveler information services, legal and regulatory issues related to traveler information and telephone services, and technical issues related to 511 deployment;

2. Prepare summary materials of 511 deployment plans;

3. System design; or

4. Providing that a statewide 511 deployment plan exists, conversion of existing telephone number including software modifications, necessary hardware changes, and system or acceptance testing.

Matching Share/Cost Sharing

There is a 20 percent matching share that must be from non-federally derived funding sources, as statutorily required, and must consist of either cash, substantial equipment contributions that are wholly utilized as an integral part of the project, or personnel services dedicated full-time to the proposed integrated deployment for a substantial period, as long as such personnel are not otherwise supported with Federal funds. The non-federally derived funding may come from State, local government, or private sector partners. Note that funding identified to support continued operations, maintenance, and management of the system will not be considered as part of the partnership's cost-share contribution.

In an ITS partnership, as with other ITS-JPO cost-sharing programs, it is inappropriate for a fee to be included in the proposed budget as part of a partner's contribution to the project. This does not prohibit appropriate fee payments to vendors or others that may provide goods or services to the partnership. It also does not prohibit business relationships with the private sector, which result in revenues from the sale or provision of ITS products or services. The DOT regulations (49 CFR 18.25) require program income to be deducted from expenditures before billing. Given prior approval, program income can be used either as match or cost share.

The ITS-JPO and the Comptroller General of the United States have the right to access all documents pertaining to the use of Federal ITS funds and non-Federal contributions. Non-Federal partners must maintain sufficient documentation to substantiate these costs. Such items as direct labor, fringe benefits, material costs, consultant costs, public involvement costs, subcontractor costs, and travel costs should be included in that documentation.

Instructions to Applicants

An application for 511 support assistance shall consist of two parts: A proposed approach for coordinating the deployment of 511 and a financial plan, that together describe the proposed activities to be conducted with this funding. The complete application shall not exceed 10 pages in length, including the 511 Deployment Coordination Approach, the Financial Plan, the title page, index, and tables. A page is defined as one side of an 8½ by 11-inch paper, with a type font no smaller than 12 point.

Applications shall be submitted in an electronic format compatible with Microsoft Office 2000. The cover sheet or title page of the application shall include the name, address, and phone number of an individual to whom correspondence and questions about the application may be directed. Any portion of the application or its contents that may contain proprietary information shall be clearly indicated; otherwise, the application and its contents shall be non-proprietary.

Selection Criteria

Applicants must submit an acceptable 511 Deployment Coordination Approach and Financial Plan that together provide sound evidence that a plan for deploying and/or converting 511 traveler information telephone services can successfully be completed in a timely fashion.

Applications should be organized into the following two sections:

1. 511 Deployment Coordination Approach

The application should describe the proposed approach for coordinating 511 deployment across a State or, as appropriate, across multiple States. The following paragraphs illustrate the general information that applicants should include in this section of the application.

(a) The application should describe the region(s) that will be included in the 511 deployment plan. This may include neighboring States or other jurisdictions that will need to be included as 511 services are deployed, as well as metropolitan areas within the State. At a minimum, the State should be considered as the total region to be addressed for 511 deployment in the plan.

(b) The application should identify candidate agencies or organizations that will be engaged in discussions about deploying 511 services. These organizations may include, but not limited to: Highway and transit operating agencies, public safety agencies, sources of traveler information, regulatory agencies, and telephone service providers. It is expected that the slate of organizations, agencies, and firms involved in deploying 511 will be adjusted as deployment plans are developed.

(c) The application should discuss institutional or organizational issues that will affect the deployment of 511 services, and what candidate techniques or activities will be used to address these issues. Prior activities that identified or addressed 511 deployment issues may be described in this section to provide a complete portrayal of the breadth of effort by the applicant to develop a plan for regional deployment. If a 511 deployment plan is completed and the requested funding will be used for converting existing telephone numbers to 511, a copy of the 511 deployment plan should be included.

(d) The application should describe the expected product(s) of the activities described in paragraph (c) of this section. It is expected that reports, plans, presentations, or other discrete outputs would be produced by these activities for use by the applicant. The applicant should propose which of these products, in addition to the 511 deployment plan, may serve as deliverables to the ITS-JPO under any resultant agreement from this request. The final deliverables will be determined in negotiations between the ITS-JPO and the selected locations.

(e) The application should include a proposed schedule or timeline depicting the development of the 511 deployment plan. The schedule should include milestone events or targeted activities, especially indicating any activities that require ITS-JPO actions or actions by organizations typically not influenced by the applying agency. The schedule should also indicate targets for delivery of any products or outputs from development activities.

2. Financial Plan

The Financial Plan should demonstrate that sufficient funding is available to successfully complete all aspects of the proposed development of the 511 deployment plan as described in section 1. The Financial Plan should also provide the financial information described under the heading, Matching Share/Cost Sharing.

An acceptable Financial Plan should:

(a) Provide a clear identification of the proposed funding for activities leading to the development of a comprehensive plan for deploying 511 services, and a commitment that no more than 80 percent of the total cost will be supported by these Federal ITS funds. As appropriate, financial commitments from other public agencies and from private firms should be documented in appropriate documents, such as memorandums of understanding.

(b) Describe how the 511 deployment plan will be developed to ensure its timely implementation and the continued, long-term operations of the system.

(c) As appropriate, include corresponding public and/or private investments that minimize the relative percentage and amount of Federal ITS funds, and evidence of continuing fiscal capacity and commitment from anticipated public and private sources.

Alternate Use of Funding

If a 511 deployment plan is developed and development activities do not exhaust all funding allocated under agreements resulting from this request, or if a 511 deployment plan exists, this funding may be used to offset the capital costs associated with converting traveler information telephone numbers to 511. Conversion activities that will be considered appropriate include telephone call routing or other call handling software modifications, necessary hardware changes, and system or acceptance testing. In addition, upon completion of a 511 deployment plan, this funding may also be used toward activities to develop 511 services. These activities may include development of basic traveler information services if none exist or are inadequate for delivery by 511.

Financial records shall be maintained that detail the activities or equipment provided by Federal funding, indicating appropriate total matching requirements, as described under the heading, Matching Share/Cost Sharing. As noted under that heading, the ITS-JPO and the Comptroller General of the United States have the right to access all documents pertaining to the use of Federal ITS funds and non-Federal contributions.

Authority: sec. 5001(a)(5), Pub. L. 105-178, 112 Stat. 107, 420; 23 U.S.C. 315; and 49 CFR 1.48.

Issued on: July 12, 2001.
Christine M. Johnson,
Program Manager, Operations Director, ITS Joint Program Office.

[FR Doc. 01-18303 Filed 7-20-01; 8:45 am]

BILLING CODE 4910-22-P